DEPARTMENT OF HOUSING AND URBAN DEVELOPMENT

24 CFR Part 5

[Docket No. FR-6124-N-02]

RIN 2501-AD89

Housing and Community Development Act of 1980: Verification of Eligible Status; Withdrawal; Regulatory Review

AGENCY: Office of the General Counsel, Department of Housing and Urban Development (HUD).

ACTION: Withdrawal of proposed rule.

SUMMARY: In accordance with the Presidential directive as expressed in the memorandum of January 20, 2021 from the Assistant to the President and Chief of Staff, entitled “Regulatory Freeze Pending Review,” HUD is reviewing all its pending proposed rules to determine which should move forward. HUD has identified a proposed rule, “Housing and Community Development of Act 1980: Verification of Eligible Status” that is inconsistent with the Executive order entitled “Advancing Racial Equity and Support for Underserved Communities Through the Federal Government” and the Executive order entitled “Restoring Faith in Our Legal Immigration Systems and Strengthening Integration and Inclusion Efforts for New Americans.” This document informs the public that HUD has determined not to pursue this proposed rule previously published in the Federal Register. HUD will proceed to formally withdraw the rule from HUD's upcoming Spring 2021 Unified Agenda of Regulatory and Deregulatory Actions.

DATES: The proposed rule published at 84 FR 20589, May 10, 2019, is withdrawn as of April 2, 2021.

ADDRESSES: Department of Housing and Urban Development, 451 7th Street SW, Room 10282, Washington, DC 20410.

FOR FURTHER INFORMATION CONTACT: Aaron Santa Anna, Associate General Counsel for Legislation and Regulations, Office of General Counsel, Department of Housing and Urban Development, 451 7th Street SW, Room 10282, Washington, DC 20410; telephone number 202-402-5138 (this is not a toll-free number). Persons with hearing or speech impairments may access this number through TTY by calling the Federal Relay Service at 800-877-8339 (this is a toll-free number).

SUPPLEMENTARY INFORMATION: In a memorandum dated January 20, 2021 and published in the Federal Register on January 28, 2021, the Assistant to the President and Chief of Staff, on behalf of the President, directed the heads of Executive Departments and Agencies to review “rules ¹ that have been published in the Federal Register, or rules that have been issued in any manner, but have not taken effect . . . for the purpose of reviewing any questions of fact, law, and policy the rules may raise.” 86 FR 7424. On January 20, 2021, President Biden also issued Executive Order 13985, Advancing Racial Equity and Support for Underserved Communities Through the Federal Government, which provides “that the Federal Government should pursue a comprehensive approach to advancing equity for all, including people of color and others who have been historically underserved, marginalized, and adversely affected by persistent poverty and inequality.” 86 FR 7009. Executive Order 13985 specifically defines “equity” to mean “consistent and systematic fair, just, and impartial treatment of all individuals, including individuals who belong to underserved communities that have been denied such treatment, such as Black, Latino, and Indigenous and Native American persons, Asian Americans and Pacific Islanders and other persons of color; members of religious minorities; lesbian, gay, bisexual, transgender, and queer (LGBTQ+) persons; persons with disabilities; persons who live in rural areas; and persons otherwise adversely affected by persistent poverty or inequality.”

¹ Rule has the definition set forth in 5 U.S.C. 551(4), to include any substantive action by an agency (normally published in the Federal Register) that promulgates or is expected to lead to the promulgation of a final rule or regulation, including notices of inquiry, advance notices of proposed rulemaking, and notices of proposed rulemaking.

On February 2, 2021, President Biden issued Executive Order 14012, Restoring Faith in Our Legal Immigration Systems and Strengthening Integration and Inclusion Efforts for New Americans. 86 FR 8277. In part, Executive Order 14012 requires that “the Federal Government eliminate[] sources of fear and other barriers that prevent immigrants from accessing government services available to them . . . [and] develop welcoming strategies that promote integration, inclusion, and citizenship . . .”

In accordance with the Regulatory Freeze Memorandum, HUD is reviewing its proposed rules and has identified a proposed rule that is inconsistent with Executive Order 13985 and Executive Order 14012: Housing and Community Development of Act 1980: Verification of Eligible Status (84 FR 20589, May 10, 2019). This document informs the public that HUD has determined not to pursue this proposed rule previously published in the Federal Register.

HUD's Withdrawal of Proposed Rule

Accordingly, HUD will proceed to formally withdraw the following proposed rule from its Spring 2021 Unified Agenda of Regulatory and Deregulatory Actions: Housing and Community Development Act of 1980: Verification of Eligible Status (84 FR 20589, May 10, 2019) (RIN 2501-AD89).

HUD's Unified Agenda of Regulatory and Deregulatory Actions is available on Reginfo.gov and can be accessed at https://www.reginfo.gov/public/do/eAgendaMain.

Sasha Samberg-Champion,
Deputy General Counsel, Office of Deputy General Counsel for Enforcement and Fair Housing.

[FR Doc. 2021-06758 Filed 4-1-21; 8:45 am]

BILLING CODE 4210-67-P